DEPARTMENT OF THE INTERIOR

Bureau of Land Management

[LLCON03000 L12320000.AL0000]

Notice of Intent To Collect Fees on Public Land in Mesa County, CO Under the Federal Lands Recreation Enhancement Act

AGENCY: Bureau of Land Management, Interior.

ACTION: Notice of intent.

SUMMARY: Pursuant to applicable provisions of the Federal Lands Recreation Enhancement Act (REA), the Bureau of Land Management's (BLM) Grand Junction Field Office is proposing to begin collecting fees in August of 2012 for overnight camping at the North Fruita Desert Campground within the North Fruita Desert Special Recreation Management Area (SRMA), North of Fruita, within Mesa County, Colorado. The North Fruita Desert was designated as an SRMA by the BLM in the North Fruita Desert Management Plan (August 2004).

DATES: To ensure that comments will be considered, the BLM must receive written comments on the BLM's proposal to collect fees in the North Fruita Desert Campground by February 27, 2012. Effective 6 months after publication of this notice, the BLM's Grand Junction Field Office would initiate fee collection in the North Fruita Desert Campground, unless the BLM publishes a Federal Register notice to the contrary.

ADDRESSES: You may submit comments on this fee collection proposal by any of the following methods:

• Email: m1bailey@blm.gov.

• Fax: (970) 244-3047.

• Mail: Michelle Bailey, Assistant Field Manager, BLM, Grand Junction Field Office, 2815 H. Road, Grand Junction, Colorado 81506.

Copies of the fee proposal are available in the Grand Junction Field Office at the above address and online at http://www.blm.gov/co/st/en/nca/mcnca/what_s_news_.html.

FOR FURTHER INFORMATION CONTACT: Michelle Bailey, Assistant Field Office Manager, at the address above. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The North Fruita Desert SRMA offers outstanding opportunities for world class mountain biking. The BLM's overall goal is to maintain the area's recreation experiences, quality social setting, and overnight camping while protecting natural resources requires substantial Federal investment. The BLM is committed to finding the proper balance between public use, reduction of user conflicts, and the protection of resources. The campground qualifies as a site wherein visitors can be charged a fee, authorized under Section 803(h) of REA, 16 U.S.C. 6802(h). In accordance with REA and implementing regulations at 43 CFR part 2930, visitors would obtain an individual Special Recreation Permit to camp within the North Fruita Desert Campground. This fee would be required to be displayed at each campsite. Permits would expire at the beginning of the subsequent calendar day. The suggested fee per campsite, per night is $10.

The BLM's goal for the North Fruita Desert Campground fee program is to ensure that funding is available to maintain the area in a naturally-appearing condition consistent with the recreation setting established by the North Fruita Desert Management Plan, to manage visitor use to provide a quality recreation experience under existing rules and regulations by providing for increased law enforcement presence, to develop additional services such as expanding interpretive/educational programming, and to protect resources. All fees collected would be used for expenses within the campground.

The BLM published the North Fruita Desert Campground Business Plan in August 2008 and updated it in November 2011, which outlines operational goals of the area and the purpose of the fee program. This Business Plan provides management direction for public enjoyment of these public lands through the recreational experience of overnight camping, while minimizing the potential for resource damage from authorized uses. The Plan also provides a market analysis of local recreation sites and sets the basis for the fee proposal. The plan is available online at: http://www.blm.gov/co/st/en/fo/gjfo.html. The North Fruita Desert Campground Business Plan addresses recreation opportunities and fees for camping within the SRMA. This plan, prepared pursuant to the REA and the BLM recreation fee program policy, also addresses establishing a permit process and the collection of user fees. This Business Plan establishes the rationale for charging recreation fees. In accordance with the BLM recreation fee program policy, the Business Plan explains the fee collection process and outlines how the fees would be used at the special area. The BLM has notified and involved the public at each stage of the planning process, including the proposal to collect fees, through notifications on-site and several public meetings to present and gather ideas concerning fees within the special area. The Northwest Colorado Resource Advisory Committee (NW RAC) reviewed and recommended the approval of this proposal at its December 1, 2011, meeting. Future adjustments in the fee amount would be made in accordance with the North Fruita Desert Campground Business Plan and through consultation with the NW RAC and the public prior to a fee increase. Fee amounts will be posted on-site and online at the GJFO Web site at: http://www.blm.gov/co/st/en/fo/gjfo.html. Copies of the Business Plan will be available at the Grand Junction Field Office.

The BLM welcomes public comments on this proposal. Before including your address, phone number, email address, or other personal identifying information in your comment, you should be aware that your entire comment—including your personal identifying information—may be made publicly available at any time. While you can ask us in your comment to withhold your personal identifying information from public review, we cannot guarantee that we will be able to do so.

Authority: 16 U.S.C. 6803(b) and 43 CFR 2932.13.

Steven Hall,
Acting State Director.

[FR Doc. 2012-1683 Filed 1-25-12; 8:45 am]

BILLING CODE 4310-JB-P